DEPARTMENT OF HOMELAND SECURITY

Office of the Secretary

Notice Designating the University of Arizona as a DHS Center of Excellence for the Study of Border Security and Immigration, Research Lead Institution

AGENCY: Office of the Secretary, Department of Homeland Security.

ACTION: Notice.

SUMMARY: The Department of Homeland Security has designated the University of Arizona as a DHS Center of Excellence for the Study of Border Security and Immigration, Research Lead Institution.

FOR FURTHER INFORMATION CONTACT: Tiffany Lightbourn, Program Manager, University Programs, Science and Technology Directorate, Department of Homeland Security, Washington, DC 20528; telephone 202-254-5843, facsimile 202-254-6179; e-mail tiffany.lightbourn@dhs.gov.

SUPPLEMENTARY INFORMATION:

Background

Section 308 of the Homeland Security Act of 2002, Public Law 107-296, (the “Homeland Security Act”), as amended by the Consolidated Appropriations Resolution 2003, Public Law 108-7, and as codified in Title 6 of the United States Code Chapter I Subchapter III Section 188(b)(2) [6 U.S.C. 188(b)(2)], directs the Department of Homeland Security (“Department”) to sponsor extramural research, development, demonstration, testing and evaluation programs relating to homeland security. As part of this program, the Department has established a coordinated system of university-based centers for homeland security (the “Centers”).

The Centers are envisioned to be an integral component of the Department's capability to anticipate, prevent, respond to, and recover from terrorist attacks. The Centers will leverage multidisciplinary capabilities and fill gaps in current knowledge.

Title 6 U.S.C. 188(b)(2)(B) lists fourteen areas of substantive expertise that, if demonstrated, might qualify universities for designation as university-based centers. The listed areas of expertise include: (1) The training of first responders; (2) responding to incidents involving weapons of mass destruction and biological warfare; (3) emergency and diagnostic medical services; (4) chemical, biological, radiological and nuclear countermeasures or detection; (5) animal and plant health and diagnostics; (6) food safety; (7) water and wastewater operations; (8) port and waterway security; (9) multi-modal transportation; (10) information security and information engineering; (11) engineering; (12) educational outreach and technical assistance; (13) border and transportation security; and (14) the public policy implications and public dissemination of homeland security relevant research and development. However, the list is not exclusive. 6 U.S.C. 188(b)(2)(C) gives the Secretary discretion to except certain criteria specified in 6 U.S.C. 188(b)(2)(B) and consider additional criteria beyond those specified in 6 U.S.C. 188(b)(2)(B) in selecting universities for this program, as long as the Department issues a Federal Register notice explaining the criteria used for the designation.

Criteria

In response to Congressional direction contained in the Conference Report for the Fiscal Year 2007 Department of Homeland Security Appropriations Act, the DHS Under Secretary for Science and Technology developed a plan in November 2006 to establish new DHS Centers of Excellence in high priority science and technology areas which aligned to the DHS Science and Technology Directorate's research portfolios and for which DHS determined there were significant gaps in scientific understanding and technological development. These areas included: (1) Natural Disasters, Coastal Infrastructure and Emergency Management, (2) Explosives Detection, Mitigation and Response, (3) Maritime, Island and Remote Environment Security, and (4) Border Security and Immigration. Research in these areas will contribute significantly to the Department's ability to enhance homeland security and the safety of our citizens from both natural and man-made threats.

The criteria for designation for this new Center of Excellence (COE) for the Study of Border Security and Immigration) is demonstrated expertise in conducting fundamental research into the policy and technological issues and challenges of U.S. border security, immigration, and national security. Research results will support DHS, other federal, state and local agencies missions to secure our national borders while welcoming legitimate visitors and trade. This COE will collaborate closely with S&T's Borders & Maritime Division which manages a full-spectrum research and development (R&D) program from fundamental research to advanced technologies. The COE for the Study of Border Security and Immigration will provide enabling basic research that will advance the technical tools and information that S&T's customers will need in the future to balance the lawful movement of people and goods with effective border security. This COE will develop relevant educational curricula for both matriculated students and career professionals.

The Center of Excellence for the Study of Border Security and Immigration will conduct basic and transformational research on border security issues in the following areas:

1. Surveillance, Screening, Data Fusion, and Situational Awareness. Specifically they will research the best ways—in terms of legality, sensitivity to privacy, effectiveness, and affordability—of maintaining surveillance over borders and ports of entry. In addition they will develop improvements in our ability to screen cargo, vehicles, and passengers entering the U.S.

2. Population Dynamics, Immigration Administration, and Immigration Enforcement. Research will develop methods to accurately measure and reliably predict the size of immigration flows to the U.S. and improve the efficiency of our system of immigration administration and enhance the enforcement of our immigration laws.

3. Operational Analysis, & Command, Control, and Communications. In particular they will develop approaches that allow for multiple layers of security and diverse forms of surveillance, interdiction, and enforcement to be effectively integrated. Research will also facilitate the timely communication of information and analysis generated by surveillance and screening systems.

4. Immigration Policy, Civic Integration, & Citizenship. Research will assess the consequences of immigration policies on future flows of migrants, the American labor market, and on the incorporation of immigrants into American society.

5. Border Risk Management & International Governance. Research will assess new technologies and improved risk assessment methodologies to prioritize protection efforts. Research will also assess strategies that can enhance cooperation among nationals and international organizations that share common interests regarding the security of the border domain.

Announcement of Funding Opportunities and Competition

In February 2007, the Department established a competitive process and requested white papers and proposals from universities that wished to be designated as DHS Centers of Excellence in: (1) Explosives Detection Mitigation and Response, (2) Explosives Detection, Mitigation and Response, (3) Maritime, Island and Remote Environment Security, or (4) Border Security and Immigration. The funding opportunity announcements for these four Centers of Excellence were published at http://www.grants.gov on February 4, 2007, as required by the Office of Management and Budget. In the area of Border Security and Immigration DHS received 11 white papers and evaluated them through a peer-review panel process that included scientific expertise from the federal government, peer-institutional faculty, and the private sector. Following the white paper review, DHS received 6 full proposals by the closing date of July 30, 2007. The 6 full proposals were reviewed by subject matter experts external to DHS S&T. Three full proposals were referred to an internal review panel of S&T subject matter experts for evaluation, who recommended site visits at all 3 sites. Based on information collected on these site visits, DHS selected the University of Arizona to be the Research Lead Institution for the Border Security and Immigration Center of Excellence, in partnership with the University of Texas at El Paso (the Education Lead), the University of New Mexico and other affiliated universities.

The University of Arizona and its partners will conduct basic and transformational research and develop educational programs on the policy and technological issues and challenges of U.S. border security, immigration, and national security.

Jay M. Cohen,
Under Secretary for Science and Technology, Department of Homeland Security.

[FR Doc. E8-13281 Filed 6-12-08; 8:45 am]

BILLING CODE 4410-10-P